CONSUMER PRODUCT SAFETY COMMISSION

[Docket No. CPSC-2009-0093]

Submission for OMB Review; Comment Request—Consumer Opinion Forum

AGENCY: Consumer Product Safety Commission.

ACTION: Notice.

SUMMARY: As required by the Paperwork Reduction Act of 1995 (44 U.S.C. Chapter 35), the Consumer Product Safety Commission (CPSC or Commission) announces that the CPSC has submitted to the Office of Management and Budget (OMB), a request for extension of approval of a collection of information from persons who may voluntarily register and participate in a Consumer Opinion Forum on the CPSC Web site, www.cpsc.gov. In the Federal Register of January 28, 2014 (79 FR 4454), the CPSC published a notice to announce the CPSC's intention to seek extension of approval of the information collection under OMB Control No. 3041-0135. The CPSC received no comments.

DATES: Written comments on this request for extension of approval of information collection requirements should be submitted by May 9, 2014.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2009-0093.

FOR FURTHER INFORMATION CONTACT: For further information contact: Robert H. Squibb, Consumer Product Safety Commission, 4330 East-West Highway, Bethesda, MD 20814; (301) 504-7815, or by email to: rsquibb@cpsc.gov.

SUPPLEMENTARY INFORMATION: CPSC seeks to renew the following currently approved collection of information:

Title: Consumer Opinion Forum.

OMB Number: 3041-0135.

Type of Review: Renewal of collection.

Frequency of Response: On occasion.

Affected Public: Persons who volunteer to participate in Consumer Opinion Forum.

Estimated Number of Respondents: 3,489 respondents annually.

Estimated Time per Response: 156 hours annually.

Total Estimated Annual Burden: $4,560.

General Description of Collection: The CPSC solicits consumer opinions and perceptions about consumer products, on a voluntary basis, through questions posted on the CPSC's Consumer Opinion Forum. Consumers, 18 years and older, who have access to the Internet and email, who voluntarily register to participate through a participant registration process, may respond to the posted questions.

Dated: April 4, 2014.
Todd A. Stevenson,
Secretary, Consumer Product Safety Commission.

[FR Doc. 2014-07917 Filed 4-8-14; 8:45 am]

BILLING CODE 6355-01-P